DEPARTMENT OF ENERGY

Federal Energy Regulatory Commission

Combined Notice of Filings #1

Take notice that the Commission received the following electric corporate filings:

Docket Numbers: EC14-129-000.

Applicants: Lexington Power and Light, LLC.

Description: Application for Authorization for Disposition of Jurisdictional Facilities and Request for Expedited Action of Lexington Power and Light, LLC.

Filed Date: 8/26/14.

Accession Number: 20140826-5090.

Comments Due: 5 p.m. ET 9/16/14.

Take notice that the Commission received the following electric rate filings:

Docket Numbers: ER14-1969-002.

Applicants: Public Service Company of Colorado.

Description: Tariff Amendment per 35.17(b): 2014-8-26 Wind Integration Amnd Filing to be effective 1/1/2015.

Filed Date: 8/26/14.

Accession Number: 20140826-5087.

Comments Due: 5 p.m. ET 9/16/14.

Docket Numbers: ER14-2700-000.

Applicants: PJM Interconnection, L.L.C.

Description: § 205(d) rate filing per 35.13(a)(2)(iii): WMPA No. 3916, Queue No. Z2-020, Between PJM, Limelakes Energy, and ATSI to be effective 7/29/2014.

Filed Date: 8/25/14.

Accession Number: 20140825-5144.

Comments Due: 5 p.m. ET 9/15/14.

Docket Numbers: ER14-2701-000.

Applicants: Public Service Company of Colorado.

Description: § 205(d) rate filing per 35.13(a)(2)(iii): 2014-8-26 Solar Star E&P-382-0.0.0 to be effective 8/18/2014.

Filed Date: 8/26/14.

Accession Number: 20140826-5000.

Comments Due: 5 p.m. ET 9/16/14.

Docket Numbers: ER14-2702-000.

Applicants: Southern California Edison Company.

Description: § 205(d) rate filing per 35.13(a)(2)(iii): Amended CLGIA & Distribution Service Agreement for Portal Ridge Solar Project to be effective 10/26/2014.

Filed Date: 8/26/14.

Accession Number: 20140826-5001.

Comments Due: 5 p.m. ET 9/16/14.

Docket Numbers: ER14-2703-000.

Applicants: EDP Renewables North America LLC.

Description: Petition for Limited Waiver of Tariff Provision and Request for Expedited Action of EDP Renewables North America LLC.

Filed Date: 8/25/14.

Accession Number: 20140825-5180.

Comments Due: 5 p.m. ET 9/15/14.

Docket Numbers: ER14-2704-000.

Applicants: Louisville Gas and Electric Company.

Description: § 205(d) rate filing per 35.13(a)(2)(iii): 2nd Amd and Rstd Reliability Coordination Agmt to be effective 9/1/2014.

Filed Date: 8/26/14.

Accession Number: 20140826-5021.

Comments Due: 5 p.m. ET 9/16/14.

Docket Numbers: ER14-2706-000.

Applicants: Midcontinent Independent System Operator, Inc.

Description: § 205(d) rate filing per 35.13(a)(2)(iii): 2014-08-26 SA 2689 NIPSCO-ComEd Facilities Upgrade Agreement to be effective 8/27/2014.

Filed Date: 8/26/14.

Accession Number: 20140826-5086.

Comments Due: 5 p.m. ET 9/16/14.

Docket Numbers: ER14-2707-000.

Applicants: Mammoth Plains Wind Project, LLC.

Description: Baseline eTariff Filing per 35.1: Mammoth Plains Wind Project, LLC MBR Application to be effective 9/19/2014.

Filed Date: 8/26/14.

Accession Number: 20140826-5094.

Comments Due: 5 p.m. ET 9/16/14.

Docket Numbers: ER14-2708-000.

Applicants: Seiling Wind, LLC.

Description: Baseline eTariff Filing per 35.1: Seiling Wind, LLC MBR Application to be effective 10/1/2014.

Filed Date: 8/26/14.

Accession Number: 20140826-5095.

Comments Due: 5 p.m. ET 9/16/14.

Docket Numbers: ER14-2709-000.

Applicants: Seiling Wind II, LLC.

Description: Baseline eTariff Filing per 35.1: Seiling Wind II, LLC MBR Application to be effective 10/1/2014.

Filed Date: 8/26/14.

Accession Number: 20140826-5096.

Comments Due: 5 p.m. ET 9/16/14.

Docket Numbers: ER14-2710-000.

Applicants: Palo Duro Wind Energy, LLC.

Description: Baseline eTariff Filing per 35.1: Palo Duro Wind Energy, LLC MBR Application to be effective 10/7/2014.

Filed Date: 8/26/14.

Accession Number: 20140826-5097.

Comments Due: 5 p.m. ET 9/16/14.

Take notice that the Commission received the following electric reliability filings:

Docket Numbers: RD14-4-000.

Applicants: North American Electric Reliability Corp.

Description: Petition of the North American Electric Reliability Corporation for Approval of Errata to Interchange Scheduling and Coordination Reliability Standards.

Filed Date: 8/22/14.

Accession Number: 20140822-5192.

Comments Due: 5 p.m. ET 9/25/14.

Docket Numbers: RD14-12-000.

Applicants: North American Electric Reliability Corp.

Description: Petition of the North American Electric Reliability Corporation for Approval of Proposed Reliability Standards for Facility Connection Requirements FAC-001-2 and FAC-002-2.

Filed Date: 8/22/14.

Accession Number: 20140822-5193.

Comments Due: 5 p.m. ET 9/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2014.
Nathaniel J. Davis, Sr.,
Deputy Secretary.

[FR Doc. 2014-20968 Filed 9-3-14; 8:45 am]

BILLING CODE 6717-01-P